DEPARTMENT OF HOUSING AND URBAN DEVELOPMENT

[Docket No. FR-5076-D-05]

Consolidated Delegation of Authority for the Office of Housing—Federal-Housing Administration (FHA)

AGENCY: Office of the Secretary, HUD.

ACTION: Notice of revocation and delegation of authority.

SUMMARY: This notice supersedes the 2003 consolidated delegation of authority to the Assistant Secretary for Housing—Federal Housing Commissioner and the General Deputy Assistant Secretary for Housing—Deputy Federal Housing Commissioner, published on August 20, 2003. This delegation supersedes and/or revokes all prior delegations from the Secretary to the Assistant Secretary for Housing—Federal Housing Commissioner. Additionally, the authority now being delegated applies not only to current statutory authorities, but also to later-enacted statutes and statutory amendments that pertain to the legislative acts cited in the delegation.

DATES: Effective Date: September 15, 2006.

FOR FURTHER INFORMATION CONTACT: Eliot C. Horowitz, Senior Advisor to the Assistant Secretary for Housing—Federal Housing Commissioner, Office of Housing, Department of Housing and Urban Development, 451 Seventh Street, SW., Room 9110, Washington, DC 20410-8000; telephone (202) 708-1490. (This is not a toll-free number.) Persons with hearing or speech impairments may call HUD's toll-free Federal Information Relay Service at 1-(800) 877-8339.

SUPPLEMENTARY INFORMATION: This notice supersedes and specifically amends in two ways the prior consolidated delegation of authority issued on August 11, 2003, and published on August 20, 2003 (68 FR 50157). First, it clarifies the nature and scope of the authority delegated to the Assistant Secretary for Housing—Federal Housing Commissioner (Assistant Secretary) and General Deputy Assistant Secretary for Housing—Deputy Federal Housing Commissioner (General Deputy Assistant Secretary) in relation to the regulation of government sponsored enterprises (GSEs) under the Federal Housing Enterprises Financial Safety and Soundness Act of 1992 (12 U.S.C. 4501 et seq.) (FHEFSSA). That authority continues to be set forth in Subpart E of this delegation of authority. In addition, the delegation has been updated (in a new section (32) under Subpart B) to include more recently issued authority, the Legacy Act of 2003 (Public Law 108-186), which was enacted by Congress in December 2003. Finally, section (23) of Subpart B has been updated to indicate that the Assistant Secretary is responsible for carrying out the provisions of the Multifamily Assisted Housing Reform and Affordability Act (MAHRA) (42 U.S.C. 1437f note). In connection with the latter authority, the Secretary issued a redelegation of authority to the Assistant Secretary effective October 1, 2004 (69 FR 62070, October 22, 2004), while also revoked authority previously redelegated to the Director of the Office of Multifamily Housing Assistance Restructuring, whose office was terminated on September 30, 2004.

Subpart E of the 2003 consolidated delegation of authority for the Office of Housing referred the reader to a delegation of authority concerning the regulation of the GSEs that was published on February 12, 1999, at 64 FR 7406. However, that 1999 delegation was unclear about the functions that were delegated to the Assistant Secretary regarding determinations whether mortgage data and information received from the GSEs were proprietary or were releasable to the public. This notice makes clear that the Secretary has delegated, to the Assistant Secretary and the General Deputy Assistant Secretary, the portion of the Secretary's general regulatory authority that gives the Secretary the authority to make determinations regarding whether any activity of a GSE is or is not authorized under its Charter Act and to request that the Director of the Office of Federal Housing Enterprise Oversight take action against a GSE that has engaged, is engaging, or is about to engage in any activity that is not authorized under its Charter Act. Authority is also delegated to the Assistant Secretary and the General Deputy Assistant Secretary to determine whether mortgage data or other information provided to HUD by Fannie Mae or Freddie Mac are proprietary or publicly releasable and to issue any rule, regulation, order, notice, letter, or other document regarding such determinations as may be necessary.

HUD is also publishing a separate delegation of authority to the Assistant Secretary for Fair Housing, of all the power and authority under the fair housing provisions of FHEFSSA set forth at 12 U.S.C. 4545, and in HUD's regulations at 24 CFR part 81, subpart C.

Section A. General Delegation of Authority

Unless otherwise stated, the Assistant Secretary and the General Deputy Assistant Secretary are each delegated the power and authority of the Secretary of HUD with respect to all housing programs and functions, including, but not limited to, those listed below in Sections B through E, with authority to redelegate to employees of the Department, unless otherwise specified. Only the Assistant Secretary, however, is delegated the authority to issue rules or regulations to carry out housing programs and to waive regulations. This authority may not be redelegated. The Assistant Secretary, as well as other Office of Housing officials, are authorized to cause the seal of HUD to be affixed to, and to authenticate copies of documents. The authority to affix the seal and authenticate copies of documents is also addressed in a separate delegation of authority. Finally, the authority delegated herein supersedes and revokes prior delegations from the Secretary to the Assistant Secretary and applies both to current authority and later enacted statutory authority.

Section B. Multifamily Programs—Authority Delegated

The authority of the Secretary of HUD with respect to the Office of Housing's multifamily housing programs and functions that are authorized under the following:

(1) Titles I, II, V, VI, VII, VIII, IX, and XI of the National Housing Act (12 U.S.C. 1701 et seq.) in exercising the power and authority delegated under this section;

(2) Section 202 of the Housing Act of 1959, as such section existed prior to the enactment of the Cranston-Gonzalez National Affordable Housing Act (12 U.S.C. 1701q note), as amended by section 811 of the American Homeownership and Economic Opportunity Act of 2000 (Pub. L. 106-561);

(3) Section 202 of the Housing Act of 1959 (12 U.S.C. 1701q), as amended by Subtitle A of Title VIII of the National Affordable Housing Act of 1990, with respect to the provision of capital advances and rental housing assistance for supportive housing for the elderly, as amended by Subtitle C of the American Homeownership and Economic Opportunity Act of 2000 (Pub. L. 106-561);

(4) Section 101 of the Housing and Urban Development Act of 1965 (12 U.S.C. 1701s) with respect to the Rent Supplement program for disadvantaged persons, including the authority to administer contracts and requirements for rent supplements;

(5) Section 8 Housing assistance under the United States Housing Act of 1937 (42 U.S.C. 1437, et seq.), including the authority delegated under Executive Order 11196 to approve the undertaking of any annual contribution, grant, or loan, or any agreement or contract for any annual contribution, grant, or loan;

(6) Section 808 of the National Affordable Housing Act (Public Law 101-625), and sections 671, 672, 674, 676, and 677 of the Housing and Community Development Act of 1992 (42 U.S.C. 13631) with respect to the provision of service coordinators in federally assisted housing;

(7) Sections 201, 202, 203, and 204 of the Housing and Community Development Amendments of 1978, and the amendments contained in Title I of the Multifamily Housing Property Disposition Reform Act of 1994 (Pub. L. 103-233, 12 U.S.C. 1701 note);

(8) The Housing Development Grant Program, pursuant to Section 17 of the United States Housing Act of 1937 (42 U.S.C. 1437o);

(9) Section 4(d) of the Department of Housing and Urban Development Act (42 U.S.C. 3533), which provides that the Assistant Secretary is the Assistant to the Secretary who shall be responsible for providing information and advice to nonprofit organizations desiring to sponsor housing projects assisted under programs administered by the Department;

(10) The authority of the Secretary under the Revolving Fund for Liquidating Programs (12 U.S.C. 1701q) to manage, repair, lease, and otherwise take all actions necessary to protect the financial interest of the Secretary in properties as to which the Secretary is mortgagee-in-possession, and to manage; repair; complete; remodel and convert; administer; dispose of; lease; sell or exchange for cash or credit at public or private sale; pay annual sums in lieu of taxes on; obtain insurance against loss on; and otherwise deal with properties as to which the Secretary has acquired title based on a loan made under the former Section 312 Rehabilitation Loan Program;

(11) The function of the Secretary under Section 7(i)(3) of the Department of Housing and Urban Development Act (42 U.S.C. 3535(i)(3)), concerning the sale, exchange, or lease of real or personal property and the sale or exchange of securities or obligations with respect to any multifamily project;

(12) Title IV of the Housing and Community Development Amendments of 1978 (42 U.S.C. 8001, et seq.);

(13) The authority to endorse any checks or drafts in payment of insurance losses on which the United States of America, acting by and through the Secretary or the Secretary's successors or assigns, is a payee (joint or otherwise) in connection with the disposition of the government's interest in property or lease of such property;

(14) Section 2 of the Housing and Urban Development Act of 1968 (12 U.S.C. 1701t);

(15) The Multifamily Mortgage Foreclosure Act of 1981 (12 U.S.C. 3701-3717);

(16) To act as an Attesting Officer with authorization to cause the seal of the Department of Housing and Urban Development to be affixed to such documents as may require its application and to certify that a copy of any book, record, paper, microfilm, electronic document, or any other document is a true copy of that in the files of the Department;

(17) The Congregate Housing Services Program under Section 802 of the National Affordable Housing Act (42 U.S.C. 8011);

(18) The HOPE for Homeownership of Multifamily Units Program under Title IV, Subtitle B, of the National Affordable Housing Act (42 U.S.C. 12701, 12871);

(19) The Multifamily Risk Sharing Programs pursuant to Section 542 of the Housing and Community Development Act of 1992 (Public Law 102-550, October 28, 1992);

(20) Title II of the Housing and Community Development Act of 1987 (12 U.S.C. 1715 note), and the Emergency Low-Income and Housing Preservation Act of 1987 (ELIHPRA), as amended by Subtitle A of Title VI of the National Affordable Housing Act (12 U.S.C. 4101 et seq.), the Low-Income Housing Preservation and Resident Homeownership Act of 1990 (LIHPRA), as further amended by Title III of the Housing and Community Development Act of 1992 (12 U.S.C. 4141 et seq.);

(21) Section 811 of Subtitle B of Title VIII of the National Affordable Housing Act of 1990 (42 U.S.C. 8013), with respect to the provision of capital advances and rental housing assistance for supportive housing for persons with disabilities as amended by Subsection C of Title VIII of the American Homeownership and Economic Opportunity Act of 2000 (Pub. L. 106-569);

(22) Section 581 of the National Affordable Housing Act of 1990 (Pub. L. 101-625) and Chapter 2, Subtitle C of Title V of the Anti-Drug Abuse Act of 1988 (42 U.S.C. 1190 et seq.), relating to the federally assisted low-income housing drug elimination program;

(23) The Portfolio Reengineering Demonstration Program authorized under Sections 211 and 212 of the Departments of Veterans Affairs and Housing and Urban Development, and Independent Agencies Appropriations Act, 1997 (Pub. L. 104-204, 110 Stat. 2874, approved September 26, 1997), as re-authorized and amended by Section 522(b) of the Departments of Veterans Affairs and Housing and Urban Development, and Independent Agencies Appropriations Act, 1998 (Pub. L. 105-65, 111 Stat. 1344, 1446, approved October 27, 1997) (42 U.S.C. 1437f note); all provisions of the Mark-to-Market Extension Act of 2001 (Title VI of Pub. L. 107-116); and all provisions of the Multifamily Assisted Housing Reform and Affordability Act (MAHRA) (42 U.S.C. 1437f note);

(24) To take actions necessary to ensure that participants in HUD programs under the jurisdiction of the Assistant Secretary for Housing comply with the regulations, rules, and procedures of the Department including, but not limited to, imposing limited denials of participation and acting as the debarring official in proceedings under part 24 of Title 24 of the Code of Federal Regulations;

(25) The Rental Assistance Program authorized by Section 236 of the National Housing Act (12 U.S.C. 1715z-1);

(26) The management and disposition of HUD-owned multifamily projects and HUD-held mortgages and the provision of grants and loans, as provided under Section 204(a) of the Departments of Veterans Affairs and Housing and Urban Development, and Independent Agencies Appropriations Act, 1997 (Public Law 104-204) (12 U.S.C. 1715z-11a);

(27) Section 3 of the Housing and Urban Development Act of 1968 (12 U.S.C. 1701u);

(28) To the Assistant Secretary only, without the power to redelegate, the authority to issue regulations under Section 7(d) of the Department of Housing and Urban Development Act (42 U.S.C. 3535(d)) and to waive regulations under Section 7(q)(2) of the Department of Housing and Urban Development Act (42 U.S.C. 3535(q)(2));

(29) The authority to administer the provisions of Section 7(i) of the Department of Housing and Urban Development Act (42 U.S.C. 3535(i)), relating but not limited to the foreclosure of mortgages, sales of foreclosed properties, and the modification of terms of the contracts;

(30) The authority to administer the provisions of Section 7(j) of the Department of Housing and Urban Development Act (42 U.S.C. 3535(j)), relating to the establishment of fees and charges;

(31) The authority to administer the provisions of Section 7(k) of the Department of Housing and Urban Development Act (42 U.S.C. 3535(k)), relating to the acceptance of voluntary services;

(32) The authority to administer the provisions of the Legacy Act of 2003 (Pub. L. 108-186).

Section C. Single Family Programs—Authority Delegated

The authority of the Secretary of HUD with respect to the Office of Housing single family housing programs and functions, and the authority with respect to mortgagee activities (including Title I lenders) for single family programs of the following:

(1) Titles I, II, V, VI, VIII, and IX of the National Housing Act (12 U.S.C. 1701 et seq.);

(2) Section 106 of the Housing and Urban Development Act of 1968 (12 U.S.C. 1701x);

(3) The Interstate Land Sales Full Disclosure Act, Title XIV of the Housing and Urban Development Act of 1968 (15 U.S.C. 1701, et seq.);

(4) The Real Estate Settlement Procedures Act of 1974 (12 U.S.C. 2601, et seq.);

(5) The authority to prescribe standards for designs, construction, and alteration of structures for programs (other than public housing programs) prescribed under the National Housing Act (12 U.S.C. 1701 et seq.);

(6) To approve or disapprove variances from the design or construction standards for all programs (other than public housing programs) under the National Housing Act (12 U.S.C. 1701, et seq.);

(7) The authority to evaluate and determine the technical suitability of housing products and materials under Section 21 of the National Housing Act (12 U.S.C. 1735e), and to issue engineering and technical bulletins governing the acceptability of housing system components, materials, and methods of construction;

(8) All matters and requirements of the National Manufactured Housing Construction and Safety Standards Act of 1974 and Title VI of the Housing and Community Development Act of 1974 (42 U.S.C. 5401-5426);

(9) To convey and execute deeds of conveyance, deeds of release, assignments, satisfactions of mortgages, and any other written instrument relating to real or personal property or any interest therein, heretofore, or hereafter acquired by the Secretary pursuant to the National Housing Act (12 U.S.C. 1701, et seq.);

(10) To perform the functions of the Secretary under Section 7(i)(3) of the Department of Housing and Urban Development Act (42 U.S.C. 3535(i)(3)), concerning the sale, exchange, or lease of real or personal property, and the sale or exchange of securities or obligations with respect to any single family property;

(11) The authority to endorse any checks or drafts in payment of insurance losses on which the United States of America, acting by and through the Secretary or his/her successors or assigns, is a payee (joint or otherwise), in connection with the disposition of the government's interest in property or lease of such property;

(12) The authority of the Secretary under the Revolving Funds for Liquidating Programs (12 U.S.C. 1701q) to manage, repair, lease, and otherwise take all actions necessary to protect the financial interest of the Secretary in properties as to which the Secretary is mortgagee-in-possession and to manage, repair, complete, remodel and convert, administer, dispose of, lease, sell or exchange for cash or credit at public or private sale, pay annual sums in lieu of taxes on, obtain insurance against loss on, and otherwise deal with properties as to which the Secretary has acquired title based on a loan under the former Section 312 Rehabilitation Loan Program;

(13) To act as an Attesting Officer with authorization to cause the seal of the Department of Housing and Urban Development to be affixed to such documents as may require one and to certify that a copy of any book, record, paper, microfilm, electronic document, or any other document is a true copy of that in the files of the Department;

(14) The Nehemiah Housing Opportunity grant program in Sections 609-613 of the Housing and Community Development Act of 1987 (12 U.S.C. 1715e);

(15) To take actions necessary to ensure that participants in HUD programs comply with regulations, rules, and procedures of the Department including, but not limited to, imposing limited denials of participation and acting as the debarring official in proceedings under part 24 of Title 24 of the Code of Federal Regulations (24 CFR part 24);

(16) To appoint a Special Assistant for Cooperative Housing pursuant to Section 102(h) of the Housing Amendments of 1955 (12 U.S.C. 1715e note);

(17) To the Assistant Secretary only, without the power to redelegate, the authority to issue regulations under Section 7(d) of the Department of Housing and Urban Development Act (42 U.S.C. 3535(d)) and to waive regulations under Section 7(q)(2) of the Department of Housing and Urban Development Act (42 U.S.C. 3535(q)(2)).

Section D. Financial Operations and Management Controls-Authority Delegated

(1) To provide financial management for programs administered by the Assistant Secretary;

(2) To formulate and develop financial management and internal control policies; to oversee compliance by the Office of Housing and Federal Housing Administration (FHA) with OMB Circulars A-123 (Management and Accountability Control), A-127 (Financial Management Systems), and A-130 (Federal Information Resources) as they apply to Housing and FHA financial and program operations; to establish and supervise the development and execution of uniform Housing and FHA policies, principles, and procedures necessary for financial management; to issue directions that implement these policies and modification to existing products;

(3) To maintain the FHA General Ledger and the chart of accounts of the FHA funds;

(4) To establish and maintain appropriate financial management controls over Housing and FHA programs; to provide technical guidance to organizational elements under the Assistant Secretary in the field of accounting and fiscal matters; to track Housing and FHA financial activities against the budget and business plan; and to coordinate the development and maintenance of integrated financial management systems needed for accounting and management of housing and FHA programs;

(5) To prepare reports; to report to the Assistant Secretary, other offices, the Department's Chief Financial Officer, and other HUD Regional and Field staff on the financial condition of FHA mortgage insurance programs (including actual and projected cash flows, accounting and performance reports, program effectiveness controls, and insurance reserves analyses); to publish an annual FHA report reflecting prior year accomplishments and the audited financial statements; and to prepare internal reports on the financial condition of Office of Housing and FHA programs;

(6) To develop and maintain integrated financial management systems; and to direct studies and audits of the accounting and financial information and systems functions;

(7) To prepare and execute policies and systems to measure the financial and actuarial soundness of Office of Housing and FHA programs; and to ensure the conduct of an independent annual audit of the FHA program financial statements;

(8) To obtain reports, information, advice, and assistance in carrying out assigned functions; and to develop financial management information to assist in developing budget, financial, accounting, and cost-accounting information on a timely basis;

(9) To direct the investment of money held in the various Office of Housing/FHA insurance funds that is not needed for current operations, in bonds or other obligations of the United States, or in bonds or other obligations guaranteed as to principal and interest by the United States;

(10) To borrow funds from the Treasury to facilitate credit reform programs.

Section E. Regulations of Government-Sponsored Enterprises (GSEs)-Authority Delegated

(1) With the exception of the income adjustments and determinations under 12 U.S.C. 4502(8)(B), (9), (10)(B), and (19)(B), and the authority and power provided to Administrative Law Judges under 24 CFR 81.82(b)(2) and (b)(3), 81.83(d)(3)-(4), and 81.84, the Secretary delegates to the Assistant Secretary and the General Deputy Assistant Secretary all the power and authority with respect to housing goal activities in 12 U.S.C. 4541 and 4561-89 including, but not limited to: monitoring the GSEs' performance under the housing goals and special affordable subgoals, and enforcing compliance with the housing goals and special affordable subgoals, including determining whether a GSE has failed, or is likely to fail, to meet a housing goal; providing written notices to the GSEs of failure or substantial probability of failure to meet a goal; extending response periods for the GSEs; requiring a housing plan; providing required notices to Congress under the housing goal provisions; reviewing housing plans; approving and disapproving housing plans; monitoring compliance with housing plans; issuing cease-and-desist orders and imposing civil money penalties; requesting the Attorney General to bring actions; settling and depositing civil money penalties; and making orders and agreements publicly available.

(2) With the exception of the authority and power provided to Administrative Law Judges under 24 CFR 81.82(b)(2) and (b)(3), 81.83(d)(3)-(4), and 81.84, the Secretary delegates to the Assistant Secretary and the General Deputy Assistant Secretary all the power and authority with respect to prior approval of new programs under 12 U.S.C. 4542 including, but not limited to: requiring under 24 CFR 81.52 that GSEs submit information about a program and requiring that GSEs submit new program requests; approving and disapproving new program requests; and extending the period for programs of review.

(3) With the exception of the authority and power provided to Administrative Law Judges under 24 CFR 81.82(b)(2) and (b)(3), 81.83(d)(3)-(4), and 81.84, the Secretary delegates to the Assistant Secretary and the General Deputy Assistant Secretary all the power and authority with respect to reporting activities in 12 U.S.C. 1456(e)-(f), 1723a(m)-(n), and 4547, and under 24 CFR 81.102, including but not limited to: determining the form of data submitted; requiring the submission of additional data; requiring additional reports and other information concerning GSE activities; requiring the GSEs to provide data underlying any of the reports required under 24 CFR part 81 and to conduct additional analyses concerning any report required under 24 CFR part 81; to independently verify the accuracy and completeness of data, information, and reports provided by each GSE, including conducting on-site verification when such steps are reasonably related to determining whether a GSE is complying with 12 U.S.C. 4541-4589 and the GSE's Charter Act; determining whether a GSE has failed to provide the certification required under 24 CFR 81.102(b); determining whether a GSE's year-end data contains any errors, omissions, or discrepancies and, if so, if a GSE fails to correct or resolve each error, omission, or discrepancy, making appropriate adjustments to a GSE's year-end data and taking additional enforcement action against a GSE for any material error, omission, or discrepancy in its year-end data under 24 CFR 81.102(c); determining whether there are any errors, omissions, or discrepancies in a GSE's data for a prior year; requiring a GSE to correct any material error, omission, or discrepancy in its data for a prior year and, should a material error, omission, or discrepancy in a GSE's data for a prior year be not corrected by its purchase of a sufficient amount or type of mortgages, issuing a notice that the GSE has failed a housing goal or Special Affordable subgoal for a prior year and seeking additional enforcement remedies and/or pursuing any other available civil or administrative remedies under 24 CFR 81.102(d); taking enforcement action under 24 CFR 81.102(e)(2), if the Assistant Secretary or General Deputy Assistant Secretary determines under 24 CFR 81.102(e)(1) that a GSE has failed to submit data, information, or reports; establishing standards and procedures for and imposing civil money penalties; requesting the Attorney General to bring enforcement actions; settling and depositing civil money penalties; making orders and agreements publicly available; and requesting the Director of the Office of Federal Housing Enterprise Oversight (OFHEO) to bring actions under 12 U.S.C. 4631, 4632, and 12 U.S.C. 4636 for violations of 12 U.S.C. 1456(e)-(f), 1723a(m)-(n), and 4547, and 24 CFR 81.102.

(4) The Secretary delegates to the Assistant Secretary and the General Deputy Assistant Secretary all the power and authority with respect to access to information provided by the GSEs governed by 12 U.S.C. 4525, 4543, and 4546 including, but not limited to: recommending the invocation of 5 U.S.C. 552(b)(3), (4), (5), (6), or (8); and to determine whether mortgage data or other information provided by the GSEs to HUD are proprietary or publicly releasable and to issue any rule, regulation, order, notice, letter, or other document regarding such determinations as may be necessary.

(5) The Secretary delegates to the Assistant Secretary and the General Deputy Assistant Secretary the portion of the Secretary's general regulatory power under 12 U.S.C. 4541 that gives the Secretary the authority to make determinations regarding whether any activity of a GSE is or is not authorized under its Charter Act and to request the Director of the Office of Federal Housing Enterprise Oversight to take action, under 12 U.S.C. 4631(a)(3) and 12 U.S.C. 4632 through 12 U.S.C. 4636, against a GSE that has engaged, is engaging, or is about to engage in any activity that is not authorized under its Charter Act. The authority delegated herein does not include any other portion of the Secretary's general regulatory authority under 12 U.S.C. 4541.

(6) The Secretary delegates to the Assistant Secretary and the General Deputy Assistant Secretary all the power and authority with respect to book-entry procedure activities in 24 CFR part 81, subpart H, including, but not limited to, establishing certain procedures for Federal Reserve Banks and waiving book-entry regulations.

(7) The Secretary delegates to the Assistant Secretary and the General Deputy Assistant Secretary all the power and authority with respect to OFHEO activities in 12 U.S.C. 4513(c), 4516(g)(1)-(2), and 4548(b), including, but not limited to: reviewing and approving certain actions of the OFHEO Director; and receiving and commenting to Congress on OFHEO's financial plans, forecasts, and operations reports. When taking action relating to OFHEO under this paragraph, the Assistant Secretary and the General Deputy Assistant Secretary shall consult with the Secretary.

(8) The Secretary delegates to the Assistant Secretary only, without the power to redelegate, all the power and authority with respect to issuing regulations under the Federal Housing Enterprises Financial Safety and Soundness Act of 1992 (12 U.S.C. 4501 et seq.) and waiving regulations promulgated under that Act.

(9) The Secretary delegates to the Assistant Secretary and the General Deputy Assistant Secretary the power and authority to take any appropriate action to implement the power and authority delegated under this delegation.

Section F. Authority Excepted

Authority excepted from this delegation of authority from the Secretary of Housing and Urban Development to the Assistant Secretary and the General Deputy Assistant Secretary is the authority to sue and be sued.

Section G. Conclusive Evidence of Authority

Any instrument or document executed in the name of the Secretary by an employee of the Department of Housing and Urban Development under the authority of this delegation purporting to relinquish or transfer any right to, title to, or interest in, real or personal property, shall be conclusive evidence of the authority of such employee to act for the Secretary in executing such instrument or document.

Section H. Delegations Revoked

This delegation supersedes and/or revokes all prior delegations from the Secretary to the Assistant Secretary for Housing-Federal Housing Commissioner and the General Deputy Assistant Secretary for Housing-Deputy Federal Housing Commissioner.

Authority: Section 7(d), Department of Housing and Urban Development Act (42 U.S.C. 3535(d)).

Dated: September 15, 2006.
Alphonso Jackson,
Secretary.

[FR Doc. E6-16857 Filed 10-11-06; 8:45 am]

BILLING CODE 4210-67-P